DEPARTMENT OF JUSTICE

Notice of Lodging Proposed Consent Decree

In accordance with Departmental Policy, 28 CFR 50.7, notice is hereby given that a proposed Consent Decree in United States of America v. Madison County Executive Airport Authority, in the United States District Court for the Northern District of Alabama, CV-03-H-2484-NE, was lodged with the United States District Court for the Northern District of Alabama on September 8, 2003.

This proposed Consent Decree concerns a complaint filed by the United States against Madison County Executive Airport Authority, pursuant to CWA Section 301(a), 33 U.S.C. 1311(a), to obtain injunctive relief from the Defendant for violating the Clean Water Act by discharging pollutants without a permit into waters of the United States. The proposed Consent Decree resolves these allegations by requiring the Defendants to restore the impacted areas and to perform mitigation.

The Department of Justice will accept written comments relating to this proposed Consent Decree for thirty (30) days from the date of publication of this Notice. Please address comments to John Charles Bell, Assistant United States Attorney for the Northern District of Alabama, United States Department of Justice, 1801 4th Avenue, North, Birmingham, Alabama 35203 and refer to Madison County Executive Airport Authority, DJ#-5-1-1-16579.

The proposed Consent Decree may be examined at the Clerk's Office, United States District Court for the Northern District of Alabama, 1729 Hugo Black Courthouse, Birmingham, Alabama 35203. In addition, the proposed Consent Decree may be viewed at http://www.usdoj.gov/enrd/open.html.

John Charles Bell,
Assistant United States Attorney.

[FR Doc. 03-23789 Filed 9-17-03; 8:45 am]

BILLING CODE 4410-15-M